DEPARTMENT OF ENERGY

Federal Energy Regulatory Commission

Combined Notice of Filings #1

Take notice that the Commission received the following electric corporate filings:

Docket Numbers: EC18-162-001.

Applicants: Mendota Hills, LLC.

Description: Notice of Non-Material Change in Facts of Mendota Hills, LLC.

Filed Date: 2/22/19.

Accession Number: 20190222-5098.

Comments Due: 5 p.m. ET 3/15/19.

Take notice that the Commission received the following exempt wholesale generator filings:

Docket Numbers: EG19-62-000.

Applicants: Brickyard Hills Project, LLC.

Description: Notice of Self-Certification of Exempt Wholesale Generator Status of Brickyard Hills Project, LLC.

Filed Date: 2/21/19.

Accession Number: 20190221-5262.

Comments Due: 5 p.m. ET 3/14/19.

Take notice that the Commission received the following electric rate filings:

Docket Numbers: ER15-632-008; ER14-2140 008; ER14-2141 008; ER14-2465 009; ER14-2466 009; ER14-2939 006; ER15-1952 006; ER15-2728 008; ER15-634 008.

Applicants: CID Solar, LLC, Cottonwood Solar, LLC, RE Camelot LLC, RE Columbia Two LLC, Pavant Solar LLC, Imperial Valley Solar Company (IVSC) 2, LLC, Maricopa West Solar PV, LLC, Mulberry Farm, LLC, Selmer Farm, LLC.

Description: Notice of Non-material Change in Status of the Dominion Companies.

Filed Date: 2/21/19.

Accession Number: 20190221-5307.

Comments Due: 5 p.m. ET 3/14/19.

Docket Numbers: ER19-709-001.

Applicants: Entergy Louisiana, LLC.

Description: Tariff Amendment: Entergy OpCos Reactive Power Update to be effective 1/1/2019.

Filed Date: 2/22/19.

Accession Number: 20190222-5087.

Comments Due: 5 p.m. ET 3/15/19.

Docket Numbers: ER19-714-001.

Applicants: Tucson Electric Power Company.

Description: Tariff Amendment: Request for Deferral of Commission Action to be effective 12/31/9998.

Filed Date: 2/22/19.

Accession Number: 20190222-5038.

Comments Due: 5 p.m. ET 3/15/19.

Docket Numbers: ER19-1097-000.

Applicants: Northern States Power Company, a Minnesota corporation.

Description: Notice of cancellation of Connection Agreement of Northern States Power Company, a Minnesota corporation.

Filed Date: 2/21/19.

Accession Number: 20190221-5291.

Comments Due: 5 p.m. ET 3/14/19.

Docket Numbers: ER19-1098-000.

Applicants: Midcontinent Independent System Operator, Inc.

Description: § 205(d) Rate Filing: 2019-02-22_SA 3252 MRES-Deuel Harvest Wind Energy FCA (J526) to be effective 2/12/2019.

Filed Date: 2/22/19.

Accession Number: 20190222-5012.

Comments Due: 5 p.m. ET 3/15/19.

Docket Numbers: ER19-1099-000.

Applicants: PJM Interconnection, L.L.C.

Description: § 205(d) Rate Filing: First Revised ISA, SA 3610; Queue No. AD1-114 to be effective 1/23/2019.

Filed Date: 2/22/19.

Accession Number: 20190222-5036.

Comments Due: 5 p.m. ET 3/15/19.

Docket Numbers: ER19-1100-000.

Applicants: SEPV Mojave West, LLC.

Description: Baseline eTariff Filing: SFA to be effective 2/23/2019.

Filed Date: 2/22/19.

Accession Number: 20190222-5073.

Comments Due: 5 p.m. ET 3/15/19.

Docket Numbers: ER19-1101-000.

Applicants: Ontario Power Generation Energy Trading, Inc.

Description: § 205(d) Rate Filing: OPGET Market-Based Rate Tariff Filing to be effective 2/23/2019.

Filed Date: 2/22/19.

Accession Number: 20190222-5093.

Comments Due: 5 p.m. ET 3/15/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 22, 2019.
Nathaniel J. Davis, Sr.,
Deputy Secretary.

[FR Doc. 2019-03737 Filed 3-1-19; 8:45 am]

BILLING CODE 6717-01-P